DEPARTMENT OF TRANSPORTATION

Office of the Secretary

Aviation Proceedings, Agreements Filed the Week Ending September 9, 2005

The following Agreements were filed with the Department of Transportation under the sections 412 and 414 of the Federal Aviation Act, as amended (49 U.S.C. 1382 and 1384) and procedures governing proceedings to enforce these provisions. Answers may be filed within 21 days after the filing of the application.

Docket Number: OST-2005-22408.

Date Filed: September 7, 2005.

Parties: Members of the International Air Transport Association.

Subject: Geneva, 4-8 July 2005, TC2 Europe Middle-East Resolutions, r1-r22.

Minutes: TC2 Within Middle East, Europe-Middle East (Memo 0208).

Tables: TC2 Europe-Middle East specified fare table (Memo 0104).

Intended effective date: 1 January 2006.

Docket Number: OST-2005-22412.

Date Filed: September 7, 2005.

Parties: Members of the International Air Transport Association.

Subject: TC2 Within Middle East, (Memo 0147), r1-r15

Minutes: TC2 Within Middle East, Geneva, 4-8 July 2005, (Memo 0150).

Tables: Geneva, 4-8 July 2005, TC2 Within Middle East (Memo 0054).

Technical Correction: Geneva, 4-8 July 2005, TC2 within Middle East, (Memo 0055).

Intended effective date: 1 January 2006.

Renee V. Wright,
Program Manager, Docket Operations, Federal Register Liaison.

[FR Doc. 05-19701 Filed 9-30-05; 8:45 am]

BILLING CODE 4910-62-P